ENVIRONMENTAL PROTECTION AGENCY

[FRL-8932-1]

Science Advisory Board Staff Office; Clean Air Scientific Advisory Committee (CASAC); Notification of a Public Advisory Committee Teleconference of the CASAC Oxides of Nitrogen Primary NAAQS Review Panel

AGENCY: Environmental Protection Agency (EPA).

ACTION: Notice.

SUMMARY: The Environmental Protection Agency (EPA) Science Advisory Board (SAB) Staff Office announces a public teleconference of the Clean Air Scientific Advisory Committee's (CASAC) Oxides of Nitrogen Primary NAAQS Review Panel (Panel) to provide comments concerning EPA's proposed revisions to the National Ambient Air Quality Standards for nitrogen dioxide.

DATES: The teleconference will be held on Monday, August 10, 2009 from 1 p.m. to 4 p.m. (Eastern Daylight Time).

ADDRESSES: The public teleconference will be conducted by telephone only.

FOR FURTHER INFORMATION CONTACT: Members of the public who wish to obtain the call-in number and access code to participate in the teleconference may contact Dr. Angela Nugent, Designated Federal Officer (DFO), EPA Science Advisory Board (1400F), U.S. Environmental Protection Agency, 1200 Pennsylvania Avenue, NW., Washington, DC 20460; via telephone/voice mail (202) 343-9981; fax (202) 233-0643; or e-mail at nugent.angela@epa.gov. General information concerning the CASAC can be found on the EPA Web site at http://www.epa.gov/casac.

SUPPLEMENTARY INFORMATION:

Background: Pursuant to the Federal Advisory Committee Act, Public Law 92-463 5 U.S.C., App. 2 (FACA), notice is hereby given that the CASAC Oxides of Nitrogen Primary National Ambient Air Quality Standards (NAAQ) Review Panel will hold a public teleconference to provide comments concerning EPA's announced plans to propose revisions to National Ambient Air Quality Standards for nitrogen dioxide. The Clean Air Scientific Advisory Committee (CASAC) was established under section 109(d)(2) of the Clean Air Act (CAA or Act) (42 U.S.C. 7409) as an independent scientific advisory committee. CASAC provides advice, information, and recommendations on the scientific and technical aspects of air quality criteria and national ambient air quality standards (NAAQS) under sections 108 and 109 of the Act. The CASAC Panel will comply with the provisions of FACA and all appropriate SAB Staff Office procedural policies.

Section 109(d)(1) of the CAA requires that the Agency periodically review and revise, as appropriate, the air quality criteria and the NAAQS for the six “criteria” air pollutants, including oxides of nitrogen. The CASAC Oxides of Nitrogen Primary NAAQS Review Panel has provided advice and review of key technical documents associated with EPA's reassessment of the NAAQS for oxides of nitrogen, including the Agency's Integrated Science Assessment for Oxides of Nitrogen—Health Criteria and Risk and Exposure Assessment to Support the Review of the NO2 Primary National Ambient Air Quality Standard. The public may access completed CASAC advisory reports related to the primary NAAQS review of oxides of nitrogen at the CASAC site at http://yosemite.epa.gov/sab/sabproduct.nsf/WebReportsbyTopicCASAC!OpenView.

On June 29, 2009, EPA announced proposed revisions to the NAAQS for nitrogen dioxide (NO2), the indicator chosen for oxides of nitrogen. The proposed revisions for NO2 can be found on the EPA Web site at http://www.epa.gov/ttn/naaqs/standards/nox/s_nox_cr_fr.html. Primary standards set limits to protect public health, including the health of “sensitive” populations such as asthmatics, children, and the elderly.

The purpose of the public teleconference meeting on August 10, 2009 is for the CASAC Panel to provide comments concerning the proposed revisions of the primary NAAQS for NO2.

Technical Contact: Any questions concerning the Agency's proposed rule for the revision of the NAAQS for lead should be directed to Dr. Scott Jenkins, OAR (by telephone (919) 541-1167 or e-mail jenkins.scott@epa.gov).

Availability of Meeting Materials: The draft agenda and other materials for the public teleconference of the CASAC Panel will be posted on the CASAC's Web site at http://www.epa.gov/casac prior to the meetings.

Procedures for Providing Public Input: Interested members of the public may submit relevant written or oral information for the CASAC Panel to consider during the advisory process. Oral Statements: Interested members of the public may submit relevant written or oral information for the SAB Panel to consider during the advisory process. In general, individuals or groups requesting an oral presentation at a public teleconference will be limited to three minutes per speaker, with no more than a total of 30 minutes for all speakers. Interested parties should contact Dr. Angela Nugent, DFO, in writing (preferably via e-mail) by August 5, 2009 at the contact information noted above to be placed on the public speaker list for this meeting. Written Statements: Written statements for the public meeting should be received by Dr. Angela Nugent at the contact information above by August 5, 2009, so that the information may be made available to the Panel for their consideration prior to the teleconference. Written statements should be supplied to the DFO in the following formats: One hard copy with original signature (optional), and one electronic copy via e-mail (acceptable file format: Adobe Acrobat PDF, MS Word, MS PowerPoint, or Rich Text files in IBM-PC/Windows 98/2000/XP format). Submitters are asked to provide versions of each document submitted with and without signatures, because the SAB Staff Office does not publish documents with signatures on its Web sites.

Accessibility: For information on access or services for individuals with disabilities, please contact Dr. Nugent at the phone number or e-mail address noted above, preferably at least ten days prior to the teleconference, to give EPA as much time as possible to process your request.

Dated: July 10, 2009.
Vanessa T. Vu,
Director, EPA Science Advisory Board Staff Office.

[FR Doc. E9-16931 Filed 7-15-09; 8:45 am]

BILLING CODE 6560-50-P